DEPARTMENT OF LABOR

Employment and Training Administration

Notice of Availability of Funds and Solicitation for Grant Applications (SGA) To Fund Demonstration Projects

Announcement Type: New, Notice of Solicitation for Grant Applications.

Funding Opportunity Number: SGA/DFA PY 08-08.

Catalog of Federal Assistance Number: 17.261.

DATES: Key Dates: The closing date for receipt of applications under this announcement is November 17, 2008. Applications must be received at the address below no later than 4:30 p.m. (Eastern Time). Application and submission information is explained in detail in Part IV of this SGA. A Webinar for prospective applicants will be held for this grant competition approximately 30 days from date of publication in the Federal Register . Access information for the Webinar will be posted on the U.S. Department of Labor's, Employment and Training Administration Web site at: http://www.workforce3one.org.

SUMMARY: The U.S. Department of Labor (DOL), Employment and Training Administration (ETA) announces the availability of approximately $5 million to fund demonstration grants that target the employment and training needs of young parents. The Young Parents Demonstration program is to provide educational and occupational skills training leading to family economic self-sufficiency to both mothers and fathers, and expectant mothers ages 16 to 24. Projects funded will be encouraged to serve young parents in high-risk categories, including those who are court-involved, in the child welfare or foster care system, homeless, or victims of child abuse.

This solicitation provides background information and describes the application submission requirements, outlines the process that eligible entities must use to apply for funds covered by this solicitation, and details how grantees will be selected.

ADDRESSES: Mailed applications must be addressed to the U.S. Department of Labor, Employment and Training Administration, Division of Federal Assistance, Attention: Eileen Banks, Reference SGA/DFA PY 08-08, 200 Constitution Avenue, NW., Room N-4716, Washington, DC 20210. Facsimile applications will not be accepted. Information about applying online can be found in Part IV. Section C. of this document. Applicants are advised that mail delivery in the Washington, DC area may be delayed due to mail decontamination procedures. Hand delivered proposals will be received at the above address.

SUPPLEMENTARY INFORMATION: This solicitation consists of eight parts:

Part I provides background information.

Part II describes award information.

Part III describes eligibility information.

Part IV describes the application and submission process.

Part V describes the applications review process.

Part VI contains award administration information.

Part VII contains DOL agency contact information.

Part VIII lists additional resources of interest to applicants.

Part I. Background Information

1. Background

Although the rate has declined by one-third since the early 1990's, the United States continues to have one of the highest rates of teen pregnancy and teen births among industrialized nations. In 2006, there were nearly 420,000 births to adolescents under the age of 20.

Early pregnancy and childbearing is closely linked to a host of critical social issues reflecting both the disadvantaged backgrounds of most teen parents and the consequences of early childbearing. Teenage mothers and their children experience more negative outcomes than mothers who delay childbearing until they are older. Children of teen mothers are more likely to be born prematurely and at low birth weight, to suffer higher rates of neglect and abuse, to perform poorly in school, and to become teen parents themselves. Teen mothers are more likely to drop out of school, live in poverty, have lower overall educational attainment, and be dependent on public assistance at some point in their lives.

Teens in foster care or transitioning out of foster care are at a greater risk of becoming teen parents: They are two and a half times more likely than their peers not in foster care to experience a pregnancy by age 19. Many foster youth lack the support system a stable family can provide; the results are pregnant and parenting teens exiting foster care with the additional challenge of trying to support themselves in addition to raising a child.

Teen childbearing is estimated to cost taxpayers at least $9.1 billion each year, including public sector health care costs, increased child welfare costs, and lost tax revenue. Two-thirds of families begun by a young unmarried mother are low-income and 52 percent of all mothers on welfare had their first child as a teenager. Current federal welfare law places a lifetime limit on the amount of financial assistance provided to parents with children and is increasingly encouraging a work-first approach; however, many teen parents lack the skills and social support to achieve economic self-sufficiency.

Teen pregnancy is the number one reason young women drop out of school, and although our society has become better at addressing this problem, the logistics of parenting and completing an education remain a challenge for teen parents, schools, government, and community and faith-based organizations. Even more challenging is the ever increasing need for additional education and training to enter unsubsidized employment and become self-sufficient, as teen mothers are less likely to attend college than women who delay childbearing. Reduced educational attainment of teen mothers has an impact on workforce participation and subsequent earnings. Teen mothers also tend to have more children over their lifetime, which has a strong negative effect on their labor force participation. With less work experience prior to parenthood, teen mothers have difficulty competing in the labor market. Research shows that teen parents have lower career aspirations, lower occupational prestige, and less satisfaction with their job and the progress of their career.

Although most of the focus of teenage pregnancy and parenting is on the mother, fathers of children born to teens also experience the educational and financial effects of early childbearing. Teen fathers tend to complete fewer years of education and are less likely to receive a high school diploma or GED. The annual earnings of teen fathers are 10-15 percent less than for men who do not have children during their teen years.¹

¹ Berglas, Nancy; Brindis and Cohen, “Adolescent Pregnancy and Childbearing in California.” California Research Bureau. June, 2003. Sacramento, CA. Page 25.

As an outgrowth of high teen pregnancy rates, programs aimed at pregnancy prevention and at fostering parenting skills for adolescents with children have increased to advance the well-being and success of adolescent parents. However, research indicates programs aimed at teen mothers show modest, if any, gains in employment and earnings and many of these gains do not last. Barriers to education and employment include unstable housing, lack of suitable child care arrangements, unstable relationships, alcohol and drug use, mental health issues, and domestic violence.

Innovative, flexible programs that facilitate the long-term self-sufficiency of young parents and build their parenting capacity must combine academics, work experience, intensive personal attention and support services. Practitioners agree that best practices include the provision of quality education and training, case management, family support services, health services, flexible child care, life skills education, and programs that increase a father's involvement. Complete success involves the ability of a teenage parent to enter the labor market and become self-sufficient. Many of these programs do not have the resources to provide comprehensive services and must stop short of providing employment and occupational skills training. Such training may not be available within a reasonable distance or factors such as child care or transportation may prohibit active participation.

2. Prior Research on Young Parent's Programs

There are literally hundreds of programs for teen parents to complete their schooling. In 1999, the National Institute on Early Childhood Development and Education profiled 43 programs for pregnant and parenting teens in a variety of settings including public schools, alternative schools, community-based facilities, and medical facilities. The focus on education, training, and employability reflects a recognition that in order to improve the long-term economic self-sufficiency of young parents and their families, it is critical that they obtain a high school diploma or equivalency and pursue additional education or job training that can improve employment and earnings in the long run.

In the welfare reforms of the early 1990's, teen parents were required to remain in school and most were expected to live at home with parents or relatives. Due to this focus on school completion, few programs for teen mothers have been rigorously evaluated in terms of employment and earnings outcomes since the 1990's, although the findings from the early studies remain informative. Information about some of these studies is listed below.

New Chance

The New Chance program was a national research and demonstration project in the mid 1980's that provided comprehensive education, training, and other services intended to improve the prospects and well-being of low-income mothers and their children. The program's eligibility criteria were designed to assure that the research sample represented populations that were central to the welfare reform debates of the time: families headed by young mothers who had their first child as teenagers, were high school dropouts, and were receiving Aid for Families with Dependent Children (AFDC). One of the program's distinguishing features was its explicit two-generational focus on both mothers and children. The program substantially increased young parents' participation in education and skills training. Eighteen to 19 year old and 20 to 22 year old project participants were more likely to earn a high school diploma or GED than their counterparts in the control group.

Teenage Parent Demonstration (TPD)

The TPD operated in Camden and Newark, New Jersey and the south side of Chicago from 1987 to 1991. All teens who applied for AFDC during the demonstration period in these sites and who were randomly assigned to the demonstration program were required to participate in education, job training, or employment-related activities, as appropriate, or be sanctioned until they did participate. The sites paid for or provided child care, transportation, and other services so that such needs were not a barrier to participation in required activities. Each teen was assigned to a case manager who developed a self-sufficiency plan, guided the teen to needed services, and monitored the teen's progress in required activities. The sites provided initial workshops and other services to prepare the teens for later education, training, and employment-related activities. Program costs were modest, averaging $2,200 per year per participant (including community-provided services, such as alternative educational services, but neither included AFDC payments nor the cost of regular high school attendance).

Some of the sites had positive employment and earnings results initially, but these results decayed because of subsequent pregnancy, insufficient child care and other services, and low skills. The evaluation of the TPD offers important lessons for state and local agencies that are implementing and have implemented the teenage parent provisions of Temporary Assistance for Needy Families. The highlights of the research were that mandatory participation and needed support services can be implemented successfully for teen parents on a large scale and at reasonable cost. Linking cash assistance to program participation increases the level of self-sufficiency activities when the participation is mandatory. TPD increased rates of school attendance, job training, and employment while the programs were operating. The increases faded after the end of the program.

Learning, Earning and Parenting Program (LEAP)

The LEAP Program, conducted from 1989 to 1997, was designed to promote school attendance of pregnant and parenting teens on welfare, with the ultimate goal of producing improved employment outcomes and reductions in welfare dependence. LEAP provided financial incentives for educational achievement, case management, and support services such as child care and transportation assistance. Experimental evaluations showed that participation in LEAP increased school enrollment, school attendance, and college enrollment, and decreased welfare participation. For the subgroups of participants who were enrolled in school at the time of program enrollment, there were also significant positive impacts on high school graduation and GED attainment rates as well as employment-related outcomes. Ohio's LEAP increased teenage parents' school and GED program attendance significantly during the first year after they entered the program. The program also increased the rates at which teen parents completed 9th, 10th, and 11th grade during the first three years after program entry.

Parents' Fair Share (PFS)

The PFS, a national demonstration project authorized by the Family Support Act of 1988, was one of the first programs providing targeted assistance to low-income fathers who were behind on child support payments. The PFS evaluation studied 5,500 fathers who were randomly assigned to a PFS group or control group at each of seven sites from 1994 to 1996. Some of the key findings were that PFS increased employment and earnings for the least-employable men and encouraged some fathers, particularly those who were least involved initially, to take a more active parenting role. Also, men referred to the PFS program paid more child support than men in the control group.

Partners for Fragile Families (PFF)

Sponsored by the Department of Health and Human Services and the Ford Foundation, the PFF demonstration was initially developed in 1996 with planning grants to 16 sites. From 2000 to 2003, 13 of these sites operated in the demonstration phase. PFF targeted young fathers (age 16-25) who had not yet established paternity or had extensive involvement with the child support enforcement system. The demonstration also included coordinated technical assistance (TA) and program development from the National Partnership for Community Leadership, a nonprofit provider of TA to community-based organizations and public agencies serving young fathers and fragile families. Some of the key findings were that the participants' earnings improved over time but were still low ($2,470 earnings per quarter one year after enrollment) and that the number of child support orders and the number and size of child support payments by participants increased over time.

3. The Young Parents Demonstration

The Fiscal Year 2008 Department of Labor Appropriations Act provides for approximately $5 million in Workforce Investment Act (WIA) Pilot, Demonstration and Research funds to conduct a new demonstration program of competitive grants to address the employment and training needs of young parents. The Young Parents Demonstration program is to provide educational and occupational skills training leading to family economic self-sufficiency to both mothers and fathers, and expectant mothers ages 16 to 24. Projects funded are to serve young parents including, as applicable, those in high-risk categories such as victims of child abuse, children of incarcerated parents, court-involved youth, youth at risk of court involvement, homeless and runaway youth, Indian and Native American youth, migrant youth, youth in or aging out of foster care, and youth with disabilities.

To ensure rigorous, valid results from the Young Parents Demonstration, each grantee must agree to participate in an innovative random assignment technique called a “bump-up” experiment. A “bump-up” experiment is a random assignment experiment ² that provides an additional level of services above and beyond what exists in the current environment (the bump). Project participants have a 50/50 chance of receiving the additional level of services. Those participants assigned to the treatment group would get the additional services while participants assigned to the control group would receive the existing services offered by the grantee. Individuals assigned to the control group would not be harmed or denied services under this design. Please note that submissions that do not propose a “bump-up” experiment will be deemed non-responsive to this solicitation and will not be considered.

² The major purpose of this experiment is to measure the difference that the program intervention makes relative to what would have happened—either better or worse—without it (counterfactual). The presence of this “counterfactual” world, or world without the presence of the intervention, makes it possible to conduct rigorous studies of pilots, demonstrations, and existing programs. Random assignment experiments provide the best counterfactuals. These studies deliberately exclude some members of the group from receiving an intervention in order to create and observe a “world without the intervention.”

ETA encourages applicants who are targeting disconnected populations to partner with networks of faith and community-based organizations. Faith and community-based organizations have valuable expertise in successful strategies for working with disconnected populations and can provide outreach and wrap around support services as needed. For applicants choosing to partner with faith and community-based organizations, please visit http://www.dol.gov/cfbci/accesspoints.htm for specific mechanisms and strategies for integrating these organizations into the proposal.

4. Necessary Project Components

A. Each applicant must currently be operating a program with the following required components:

• Education, Training, and Employment Strategies—this component is focused on providing young parents with skills and credentials relevant to the industries or occupations in demand in the local labor market.

• Mentoring—this component is aimed at providing life skills and ongoing support to young parents. Mentoring can be defined as informal activities, such as one-on-one mentoring or group mentoring, or formal activities, such as home visitation. ETA requires that a faith-based or community-based organization experienced in providing social services to young parents or in operating mentoring programs will have the lead in this component of the program. The mentoring component should include a period of mentoring and follow-up that is no less than 18 months in duration and longer if possible.

• Case Management—Case management should include the identification, assessment, and enrollment of young parents in the project and the development of a personalized service strategy that may include personal, educational, or employment-related supports and the identification of appropriate supportive services. Case managers should have a central role in ensuring that project participants receive all of the necessary and appropriate services to overcome any barriers to full project participation. Case management includes: follow-up and retention services intended to sustain and advance the gains made in education and employment outcomes; individualized, consistent follow-up after training and during the retention period for at least one year; and/or intensive follow-up and retention services such as home visits or employer visits rather than periodic phone calls.

• Supportive Services—this component is aimed at reducing barriers to stable participation in education and employment, which may include child care assistance, transportation assistance, mental or physical health care, parenting education classes, work-based stipends, or other efforts.

B. This grant will provide an opportunity for a grantee to supplement their existing program (as described in section A above). The grant must provide a new, persistent service intervention above and beyond the grantee's existing menu of services (i.e. a “bump-up” initiative). The grant can be used to expand initiatives under the education, employment, and training component or the mentoring component, but NOT the case management or supportive services components. The “bump-up” initiative must not consist of services that could otherwise reasonably be provided by an existing partner.

C. The following is a list of examples of program services or models for specific components that would qualify for the “bump-up.” Please note that case management and supportive services are not eligible components for the additional bump-up. However, applicants are free to include in their proposed design services or models other than those provided here.

Education, Training, and Employment

• Work with an educational institution to develop a vocational training program which would encompass the flexibility needed by pregnant/parenting young adults.

• Provide alternative education options such as credit retrieval or GED completion.

• Provide assistance with transition to post-secondary education at a two-year or four-year institution.

• Coordinate with employers to identify career ladders, establish training needs, develop employer-based training, and/or hire individuals upon completion of the training.

• Work with employers to develop internships specifically for this population which would allow flexibility to accommodate child care or pre-natal care.

• Increase employment opportunities through the addition of Job Developer/Specialist positions that work closely with the local One-Stop Career Center staff to identify job opportunities for young parents.

• Provide flexible employment/training scheduling such as split shifts, night work, or evening classes to ensure continuity of child care.

Mentoring

• Provide individualized, consistent mentoring for participants, with an added emphasis on participants who are enrolled in off-site activities.

• Work with employers to develop a workplace mentoring program to assist expectant mothers and/or young parents in retaining employment and advancing their careers.

• Work with educational entities to develop mentoring programs to assist expectant mothers and/or young parents in remaining engaged in and complete the education and training program.

• Provide a comprehensive mentoring program that addresses each of three types of mentoring strategies: Personal Development Mentoring which educates and supports youth during times of personal or social stress and provides guidance for decision making; Educational or Academic Mentoring which helps a student improve their overall academic achievement; and Career Mentoring which helps the youth develop the necessary skills to enter or continue on a career pathway.

• An example of a program with effective mentoring strategies includes:

• Ready 4 Work—Ready4Work was a three-year, $25 million pilot program designed to assist men and women returning from incarceration through faith-based and community-based organizations. Over 60 percent of Ready4Work participants received mentoring as part of their services. Participants who met with a mentor at least once showed stronger outcomes than those who did not participate in mentoring. Information on this program can be found at http://www.dol.gov/cfbci/ready4.htm.

• Information on starting mentorship programs is available at the MENTOR/National Mentoring Partnership Web site at http://www.mentoring.org/, including their guide Elements of Effective Practice at http://www.mentoring.org/downloads/mentoring_411.pdf and their tool kit How to Build a Successful Mentoring Program Using the Elements of Effective Practice at http://www.mentoring.org/downloads/mentoring_413.pdf.

Part II. Award Information

1. Award Amount

ETA anticipates awarding between 5-7 grants under this solicitation, with individual grants ranging in value from $500,000 to $1 million. However, this does not preclude ETA from funding grants at either a lower or higher amount, or funding a smaller or larger number of projects, based on the type and the number of quality submissions. Applicants are encouraged to submit budgets for quality projects at whatever funding level is appropriate for their project.

2. Period of Performance

The period of grant performance will be up to 36 months from the date of execution of the grant documents. This performance period shall include all necessary implementation and start-up activities, participant follow-up for performance outcomes, and grant close-out activities. ETA may elect to exercise its option to award no-cost extensions to grants for an additional period, based on the success of the program and other relevant factors, if the grantee requests, and provides a significant justification for, such an extension.

3. Matching Resources

Under this solicitation, matching or leveraged resources are not required. The applicant may provide leveraged resources from key entities to strengthen the service program offered to project participants. For applicants who choose to leverage resources, please include the following information in the technical proposal: (1) The total amount leveraged from federal sources; (2) the total amount leveraged from non-federal sources; (3) the partners contributing the resources; and (4) the projected activities, broken out by the source of the leveraged resource (federal or nonfederal), to be implemented utilizing these resources. Applicants should address leveraged resources (as applicable) in the technical proposal but should not reflect the leveraged resources on the SF-424A form.

4. Funding Restrictions

Determinations of allowable costs will be made in accordance with the applicable federal cost principles. Disallowed costs are those charges to a grant that the grantor agency or its representative determines not to be allowed in accordance with the applicable federal cost principles or other conditions contained in the grant. Applicants will not be entitled to reimbursement of pre-award costs.

Limitations on Cost Per Participant. Since training costs may vary considerably depending on required skills and competencies, flexibility will be provided on cost per participant. However, applications for funding will be reviewed to determine if the cost of the training is appropriate and will produce the outcomes identified. Applicants should demonstrate that the proposed cost per participant is aligned with existing price structures for similar training in the local area or other areas with similar characteristics. When calculating cost per participant, applicants must distinguish between non-training and training costs utilizing grant funds.

Indirect Costs. As specified in the Office of Management and Budget (OMB) Circular Cost Principles, indirect costs are those that have been incurred for common or joint objectives and cannot be readily identified with a particular cost objective. An indirect cost rate (ICR) is required when an organization operates under more than one grant or other activity whether federally-assisted or not. Organizations must use the ICR supplied by the cognizant federal agency. If an organization requires a new ICR or has a pending ICR, the Grant Officer will award a temporary billing rate for 90 days until a provisional rate can be issued. This rate is based on the fact that an organization has not established an ICR agreement. Within this 90 day period, the organization must submit an acceptable indirect cost proposal to their Federal cognizant agency to obtain a provisional ICR.

Administrative Costs. An entity that receives a grant under this solicitation may not use more than 10 percent of the amount of the grant to pay administrative costs associated with the program or project. Administrative costs could be both direct and indirect costs and are defined at 20 CFR 667.220. Administrative costs do not need to be identified separately from program costs on the Standard Form 424A Budget Information Form.

Administrative costs should be discussed in the budget narrative and tracked through the grantee's accounting system. To claim any administrative costs that are also indirect costs, the applicant must obtain an indirect cost rate agreement from its Federal cognizant agency as specified above.

Use of Funds for Supportive Services. Grant funds under this solicitation may not be used to provide supportive services, such as transportation and childcare, including funds provided through stipends for such purposes.

Salary and Bonus Limitations. None of the funds appropriated in Public Law 109-149, Public Law 110-5, or prior Acts under the heading ‘Employment and Training’ that are available for expenditure on or after June 15, 2006, shall be used by a recipient or sub-recipient of such funds to pay the salary and bonuses of an individual, either as direct costs or indirect costs, at a rate in excess of Executive Level II, except as provided for under section 101 of Public Law 109-149. This limitation shall not apply to vendors providing goods and services as defined in OMB Circular A-133. See Training and Employment Guidance Letter number 5-06 for further clarification: http://wdr.doleta.gov/directives/corr_doc.cfm?DOCN=2262.

Legal Rules Pertaining to Inherently Religious Activities by Organizations that Receive Federal Financial Assistance. Direct Federal grants, sub-awards, or contracts under this program shall not be used to support inherently religious activities such as religious instruction, worship, or proselytization. Therefore, organizations must take steps to separate, in time or location, their inherently religious activities from the services supported with DOL financial assistance under this program. Neutral, secular criteria that neither favor nor disfavor religion must be employed in the selection of grant and sub-grant recipients. In addition, under the Workforce Investment Act of 1998 and DOL regulations implementing the Workforce Investment Act, a recipient may not use direct Federal assistance to train a participant in religious activities, or employ participants to construct, operate, or maintain any part of a facility that is used or to be used for religious instruction or worship. See 29 CFR 37.6(f). Under WIA, “no individual shall be excluded from participation in, denied the benefits of, subjected to discrimination under, or denied employment in the administration of or in connection with, any such program or activity because of race, color, religion, sex (except as otherwise permitted under Title IX of the Education Amendments of 1972 and the Religious Freedom Restoration Act of 1993), national origin, age, disability, or political affiliation or belief.” Regulations pertaining to the Equal Treatment for Faith-Based Organizations, which includes the prohibition against supporting inherently religious activities with direct DOL financial assistance, can be found at 29 CFR part 2, Subpart D. Provisions relating to the use of indirect support (such as vouchers) are at 29 CFR 2.33(c) and 20 CFR 667.266.

A faith-based organization receiving federal financial assistance retains its independence from Federal, State, and local governments, and may continue to carry out its mission, including the definition, practice, and expression of its religious beliefs. For example, a faith-based organization may use space in its facilities to provide secular programs or services supported with Federal financial assistance without removing religious art, icons, scriptures, or other religious symbols. In addition, a faith-based organization that receives Federal financial assistance retains its authority over its internal governance, and it may retain religious terms in its organization's name, select its board members on a religious basis, and include religious references in its organization's mission statements and other governing documents in accordance with all program requirements, statutes, and other applicable requirements governing the conduct of DOL funded activities.

The Department notes that the Religious Freedom Restoration Act (RFRA) , 42 U.S.C. sec. 2000bb, applies to all Federal law and its implementation. If your organization is a faith-based organization that makes hiring decisions on the basis of religious belief, it may be entitled to receive Federal financial assistance under Title I of the Workforce Investment Act and maintain that hiring practice even though Section 188 of the Workforce Investment Act contains a general ban on religious discrimination in employment. If you are awarded a grant, you will be provided with information on how to request such an exemption.

Faith-based and community organizations may reference “Transforming Partnerships: How to Apply the U.S. Department of Labor's Equal Treatment and Religion-Related Regulations to Public-Private Partnerships” at: http://www.workforce3one.org/public/_shared/detail.cfm?id=5566&simple=false.

Intellectual Property Rights. The Federal Government reserves a paid-up, nonexclusive and irrevocable license to reproduce, publish or otherwise use, and to authorize others to use for federal purposes: (i) The copyright in all products developed under the grant, including a subgrant or contract under the grant or subgrant; and (ii) any rights to copyright to which the grantee, subgrantee or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy which are limited to the developer/seller costs of copying and shipping. If revenues are generated through selling products developed with grant funds, including intellectual property, these revenues are program income. Program income is added to the grant and must be expended for allowable grant activities.

Part III. Eligibility Information

1. Eligible Applicants

This SGA intends to encourage new and continuing partnerships between: The publicly funded workforce investment system; representatives from business, industry, and economic development; and the continuum of education.

In order to be eligible for consideration under this solicitation, the applicant must be either:

• An accredited educational institution in partnership with a Workforce Investment Board;

• A non-profit provider of workforce system services determined to be tax exempt under section 501(c) of the Internal Revenue Code in partnership with a Workforce Investment Board. Please note that 501(c)(4) organizations which engage in lobbying activities are not eligible applicants under this solicitation;

• A One-Stop Career Center as established under Section 121 of WIA, [29 U.S.C. 2841], in partnership with a state or local Workforce Investment Board. The eligible applicant for One-Stop Career Centers is the One-Stop Operator, as defined under Section 121(d) of WIA [29 U.S.C. 2841(d)], on behalf of the One-Stop Career Center;

• An employer or industry association in partnership with a Workforce Investment Board; or

• A private, for-profit organization in partnership with a Workforce Investment Board.

Applicants must have a letter of commitment from the participating Workforce Investment Board. Please note that applications without a letter of commitment from a Workforce Investment Board will be considered non-responsive and will not be reviewed. Please note that each applicant must currently be operating a program with the required components as stated in Part I., Section 4 of the solicitation.

2. Participant Eligibility Requirements

Eligible Participants. The grants must be used to serve young parents (both mothers and fathers and in-school and out-of-school young parents) and expectant mothers ages 16 to 24, including those in high-risk categories such as victims of child abuse, children of incarcerated parents, court-involved youth, youth at risk of court involvement, homeless and runaway youth, Indian and Native American youth, migrant youth, youth in or aging out of foster care, and youth with disabilities. For the purposes of this SGA, in-school young parents are defined as individuals that are enrolled in a secondary or post-secondary institution either full or part-time at the time of participating in the young parent demonstration project proposed.

Furthermore, given that out-of-school expectant mothers and out-of-school young parents are more difficult to serve and may not have the opportunity to receive the extensive array of services that is available to in-school young parents, ten additional points will be awarded to applicants who primarily serve out-of-school youth.

Veterans Priority. The Jobs for Veterans Act (Pub. L. 107-288) provides priority of service to veterans and spouses of certain veterans for the receipt of employment, training, and placement services in any job training program directly funded, in whole or in part, by the Department of Labor. In circumstances where a grantee must choose between two equally qualified candidates for training, one of whom is a veteran, the Jobs for Veterans Act requires that the grantee give the veteran priority of service by admitting him or her into the program. Please note that, to obtain priority of service, a veteran must meet the program's eligibility requirements. ETA Training and Employment Guidance Letter (TEGL) No. 5-03 (September 16, 2003) provides general guidance on the scope of the Job for Veterans Act and its effect on current employment and training programs. TEGL No. 5-03, along with additional guidance, is available at the Jobs for Veterans Priority of Service Web site: http://www.doleta.gov/programs/vets.

Part IV. Application and Submission Process

A. Address to Request Application Package

This SGA contains all of the information and links to forms needed to apply for grant funding.

B. Content and Form of Application Submission

The proposal must consist of two (2) separate and distinct parts, Part I—The Cost Proposal and Part II—The Technical Proposal. Applications that fail to adhere to the instructions in this section will be considered non-responsive and may not be given further consideration. Applicants who wish to apply do not need to submit a Letter of Intent. The completed application package is all that is required.

Part I—The Cost Proposal must include the following three items:

• The Standard Form (SF)-424, “Application for Federal Assistance” (available at http://www.doleta.gov/sga/forms.cfm). The SF-424 must clearly identify the applicant and be signed by an individual with authority to enter into a grant agreement. Upon confirmation of an award, the individual signing the SF-424 on behalf of the applicant will be considered the Authorized Representative of the applicant.

• All applicants for federal grant and funding opportunities are required to have a Data Universal Numbering System (DUNS) number provided by Dun and Bradstreet. See OMB Notice of Final Policy Issuance, 68 FR 38402 (June 27, 2003). Applicants must supply their DUNS number on the SF-424. The DUNS number is a nine-digit identification number that uniquely identifies business entities. Obtaining a DUNS number is easy and there is no charge. To obtain a DUNS number, access this Web site, www.dunanbradstreet.com, or call 1-866-705-5711.

• The SF-424A Budget Information Form (available at http://www.doleta.gov/sga/forms.cfm). In preparing the Budget Information Form, the applicant must provide a concise narrative explanation to support the request. The budget narrative should explain the administrative costs and how they support the project goals. All applicants should indicate training costs-per-participant by dividing the total amount of the budget designated for training by the number of participants trained. Please note that applicants that fail to provide an SF-424, SF-424A and a budget narrative will be removed from consideration prior to the technical review process. If the proposal calls for integrating WIA or other federal funds or includes other leveraged resources, these funds should not be listed on the SF-424 or SF-424A, Budget Information Form, but should be described in the budget narrative. The amount of federal funding requested for the entire period of performance should be shown together on the SF-424 and SF-424A Budget Information Form. Applicants are also encouraged, but not required, to submit the OMB Survey No. 1890-0014: Survey on Ensuring Equal Opportunity for Applicants, which can be found at: http://www.doleta.gov/sga/forms.cfm.

Part II—The Technical Proposal of the application demonstrates the applicant's capabilities to fulfill the intention of the SGA. The Technical Proposal is limited to twenty (20) double-spaced, single-sided, 8.5 inch x 11 inch pages with twelve point text font and one-inch margins. The first page of Part II—The Technical Proposal must consist entirely of an executive summary not to exceed one page. Applicants should number the Technical Proposal beginning with page number one. Any pages over the 20-page limit will not be reviewed. The required letter(s) of commitment and/or documentation of partnership must be submitted and will not count against the first 20 allowable pages. Please note, letters of commitment should be sent with or attached to the application. Additionally, the applicant must reference grant partners by organizational name in the text of the Technical Proposal. No cost data or reference to prices should be included in the Technical Proposal. Applications may be submitted electronically on www.grants.gov or in hard-copy via U.S. mail, professional overnight delivery service, or hand delivery. These processes are described in further detail in Part IV.C. Applicants submitting proposals in hard-copy must submit an original signed application (including the SF-424) and one (1) “copy-ready” version free of bindings, staples or protruding tabs to ease in the reproduction of the proposal by USDOL/ETA.

C. Submission Date, Times and Mailing Address

The closing date for receipt of applications under this announcement is November 17, 2008. Applications must be received at the address below no later than 4:30 p.m. (Eastern Time). Applications sent by e-mail, telegram, or facsimile will not be accepted. Applications that do not meet the conditions set forth in this notice will not be honored. No exceptions to the mailing and delivery requirements set forth in this notice will be granted.

To apply by mail, please submit one (1) blue-ink signed, typewritten original of the application and two (2) signed photocopies in one package to the U.S. Department of Labor, Employment and Training Administration, Division of Federal Assistance, Attention: Eileen Banks, Reference SGA/DFA PY 08-08, 200 Constitution Avenue, NW., Room N-4716, Washington, DC 20210. Information about applying online through http://www.grants.gov can be found in Section IV.B of this document. Applicants are advised that mail delivery in the Washington area is delayed due to mail decontamination procedures. Hand delivered proposals will be received at the above address.

Applicants may apply online through grants.gov (http://www.grants.gov). It is strongly recommended that applicants applying online for the first time via grants.gov immediately initiate and complete the “Get Registered” registration steps at http://www.grants.gov/applicants/get_registered.jsp. These steps may take multiple days or weeks to complete, and this time should be factored into plans for electronic application submission in order to avoid unexpected delays that could result in the rejection of an application. It is highly recommended that online submissions be completed at least two (2) working days prior to the date specified for the receipt of applications to ensure that the applicant still has the option to submit by overnight delivery service in the event of any electronic submission problems. If submitting electronically through grants.gov, the components of the application must be saved as either .doc, .xls or .pdf files.

Late Applications. Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be postmarked by the 15th of that month) or (b) was sent by professional overnight delivery service or submitted on grants.gov to the addressee not later than one working day prior to the date specified for receipt of applications. An application submitted though grants.gov will not be considered “received” by the Department of Labor unless it is: Electronically submitted on grants.gov prior to the deadline; “validated” by grants.gov; and forwarded by grants.gov to the Department of Labor. It is highly recommended that online submissions be completed two working days prior to the date specified for receipt of applications to ensure that the applicant still has the option to submit by professional overnight delivery service in the event of any electronic submission problems. Applicants take a significant risk by waiting until the last day to submit by grants.gov. “Postmarked” means a printed, stamped or otherwise placed impression that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review

This funding opportunity is not subject to Executive Order (EO) 12372, “Intergovernmental Review of Federal Programs.”

E. Withdrawal of applications

Applications may be withdrawn by written notice at any time before an award is made. Applications may be withdrawn in person by the applicant or by an authorized representative thereof, if the representative's identity is made known and the representative signs a receipt for the proposal.

Part V. Applications Review Process

This section identifies and describes the criteria that will be used to evaluate proposals for the Young Parents Demonstration. The criteria and maximum point values are:

Criterion | Points
1. Description of Existing Program and Program Outcomes | 15
2. Statement of Need and Targeted Population | 10
3. Project Design and Service Strategy | 40
4. Program Management and Organizational Capacity | 20
5. Linkages to Key Partners | 15
Bonus Points (Programs Serving Out-of-School Expectant Mothers and Out-of-School Young Parents) | 10
Total Possible Points (including bonus) | 110

1. Description of Existing Program and Program Outcomes (up to 15 Points)

The applicant should fully describe the existing program and document the past accomplishments of the program for expectant mothers and/or young parents. Please explain:

• How long the program has been in operation;

• What education, training and employment strategies are included;

• How case management services (including follow-up and retention) are provided;

• The type of mentoring available; and

• The support services provided in the existing program.

The applicant should also provide annual performance data on the following factors, as applicable:

• Number of youth recruited;

• Number of youth enrolled;

• Number of youth that have completed the program;

• Number and percent of youth receiving their GED or high school diploma (Please differentiate between the two.);

• Rate of literacy and numeracy gains by participants;

• Number and percent of youth who have entered employment;

• Employment retention rates;

• Number and percent of youth who have entered post-secondary training or education;

• Post-secondary training or education retention rates; where available, please indicate the number of participants who have completed post-secondary training or education and have achieved a credential;

• Number and percent of youth who have entered registered apprenticeship programs; and

• Annual cost per participant.

Scoring under this criterion will be based on the extent to which applicants describe their existing program and their performance accomplishments including:

• The inclusion of the necessary program components listed in Part I, Section 4;

• The types of education, training and employment activities undertaken;

• The degree to which youth are exposed to and trained in a variety of high-growth and high-demand fields; and

• The degree to which the performance data is provided and documented.

2. Statement of Need and Targeted Population (up to 10 Points)

The applicant must clearly describe the need for the additional services provided under this grant opportunity. Applicants will describe in detail the community in which the grant will operate, the need in that community for the grant resources, and the pool of individuals who will be receiving the grant services. Scoring under this criterion will be based on the extent to which applicants describe the following:

• The community where the Young Parents Demonstration Grant will operate. If there are particular neighborhoods within the community where the grant will be focused, describe these neighborhoods and provide available data and data sources specific to those areas. Required information includes the population of the area, its poverty rate, its unemployment rate, the drop-out rate, and the number of 16-24 year olds without a high school diploma; ³

³ To obtain these indicators, applicants can use Census Tract Data from the 2000 Census—go to http://factfinder.census.gov and use the link on the left for People.

• The needs of the community that is proposed to be served through the grant and the benefits to the community of the additional service intervention; and

• The characteristics of the targeted expectant mothers and/or young parents, ages and number to be served by the grant. Please identify, if any, the high-risk category to which the targeted participants belong including: Victims of child abuse, children of incarcerated parents, court-involved youth, youth at-risk of court involvement, homeless and runaway youth, Indian and Native American youth, migrant youth, youth in or aging out of foster care, and youth with disabilities.

All of these indicators should be presented in chart form and the applicant must provide the sources for the data provided.

3. Project Design and Service Strategy (up to 40 Points)

a. Bump-Up Experiment Strategy (15 Points)

Applicants are requested to specify the purpose of the proposed project and demonstrate how the proposed program intervention (bump-up service) will provide solutions to the workforce challenges of young parents. Scoring under this criterion will be based on the extent to which applicants describe:

• The new intervention proposed and how it will upgrade the education, basic and occupational skills of the participants. Please note that the intervention must be a new, persistent service intervention above and beyond the grantee's existing or committed menu of services (i.e., a “bump-up” initiative). The grant can be used to expand initiatives under the education, employment, and/or training component or the mentoring component (but NOT the case management or supportive services components). Please see Part I, Section 4 for more information on this requirement.

• How the additional “bump-up” services will be used to enhance participants' educational attainment, training services and employment prospects and how such methodologies will be provided (i.e., at the program facilities, high school, community college, community center, One-Stop Career Center, etc.).

• How the services will shorten the period of time required for expectant mothers and/or young parents to acquire basic and occupational skills, and credentials demanded by local high-growth industry employers; and incorporate follow-up retention services intended to sustain and advance the gains made in education and employment and increase the participants' opportunities for economic self-sufficiency.

b. Participant Recruitment (5 Points)

Applicants must provide a description of how eligible youth will be selected as participants, including a description of arrangements that will be made with Local Workforce Investment Boards, One-Stop Career Centers, faith-based and community-based organizations, state educational agencies or local educational agencies, public assistance agencies, the courts of jurisdiction, and other appropriate public and private agencies. As appropriate, please fully describe the special outreach efforts that will be undertaken to recruit expectant mothers and/or young parents from the high-risk categories mentioned previously. Applicants will be evaluated on the quality and comprehensiveness of their recruitment strategy including methods for outreach, referral, and selection.

c. Education and Occupational Skills Training Service Delivery (10 Points)

Applicants must describe the educational and job training activities, work opportunities, post-secondary education and training opportunities, and other services that will be provided to participants (whether they are part of the existing service strategy or bump-up component), and how those activities, opportunities, and services will prepare participants for employment in occupations in demand in the local labor market. Scoring under this criterion will be based on the extent to which applicants describe:

• The service process that will be used in the project including any sequence of services in the overall process (i.e., assessment, case management, referrals, training, etc.), how specific services for participants will be determined, and which partner(s) will provide the services. Also, the applicant must identify when the services will become available to the participants (i.e., before, during or after training, or pre- or post-employment/placement), and describe how these services will facilitate young parents' participation in the program;

• How these activities are integrated with the academic, skills training, and career exploration and employment components of the program; and

• A comprehensive service delivery program that includes education, training and/or employment, case management services, ongoing services such as mentoring and life skills, and other related services that may mitigate barriers to stable program participation such as: child care assistance, transportation assistance, mental or physical health care, and parenting education classes, among others.

i. Education Program

The applicant must indicate the type of academic credential that participants earn while in the program (such as a GED or high school diploma). Under this sub-criterion, applicants will be rated on evidence of the following:

• The quality of the academic program and the qualifications of the teaching staff;

• The presence of innovative and successful strategies that the program or initiative has used to address low basic skills of participants. If distance learning and/or credit retrieval is used, please fully describe how this is incorporated into the overall academic program;

• The relationship between the program and the local school district(s) (if applicable);

• How the academic program is integrated with the occupational skills training component of the program;

• The interaction of the academic and occupational skills training;

• The program's linkages to local high schools, community colleges and trade schools;

• The types of college exploration, planning, preparation, and assistance that will be provided; and

• The types of follow-up services that will be provided to support youth as they transition to post-secondary education and ensure that they graduate.

ii. Occupational Skills Training

The applicant must discuss the occupational skills training component of the program. Under this sub-criterion, applicants will be rated on evidence of the following:

• Where and how the training will be conducted,

• How the curriculum is developed,

• The existence of a career ladder,

• The type of industry recognized credentials that result from the training, and

• The involvement of industry partners in the development of the training.

The applicant should provide labor market information for the community, state, and/or region where the grant will be implemented, including both current data (as of the date of submission of the application) and projections of career opportunities in growing industries. The applicant should explain how the grant will prepare youth for the local labor market in demand driven occupations and other high-growth career fields.

d. Mentoring and Other Supportive Services (5 Points)

Applicants must describe mentoring services and other supportive services that will be available for expectant mothers and/or young parents through the proposed program, and the qualifications of instructors, mentors and other required professionals in charge to facilitate the young parents' participation. The applicant must indicate how the mentoring and other supportive services fit into the overall service plan for the project participants. Proposed mentoring projects should seek to address each of three types of mentoring strategies: Personal Development Mentoring which educates and supports youth during times of personal or social stress and provides guidance for decision making; Educational or Academic Mentoring which helps a student improve their overall academic achievement; and Career Mentoring which helps the youth develop the necessary skills to enter or continue on a career path. The proposed mentoring strategies should include a period of mentoring and follow-up that is no less than 18 months in duration. The Department does not expect that every project participant will have a mentor, but that a sufficient proportion of the project participants have a mentor.

e. Post-Program Transition (5 Points)

The applicant must describe the types of post-program transition services that will be offered to prepare youth for a career pathway and/or educational opportunities and placements. Scoring under this criterion will be based on the extent to which applicants describe the following:

• The program's assessment of each participant's work readiness and how work readiness training will be provided, how an individual's readiness for placement in secondary or post-secondary education and/or apprenticeship programs will be assessed, and the types of career exploration and planning activities that will be offered by the program, particularly for high-growth, high-demand, and high-wage occupations; ⁴

⁴ For a list of the U.S. Department of Labor's Employment and Training Administration's Targeted High-Growth Industries, go to: http://www.doleta.gov/BRG/eta_default.cfm.

• The program's job placement and retention strategy, including how the program will work with employers and/or One-Stop Career Centers to identify and create job openings for the young parents served by the program; and

• The types of follow-up that will be provided to young parents after completing the program. These services should relate to employment placement and retention, post-secondary transition and degree attainment. Describe how appropriate continued support services will be provided.

4. Program Management and Organizational Capacity (up to 20 Points)

The applicant must describe their organization and state its qualifications for running a Young Parents Demonstration Grant including years of operation, current annual budget, experience of staff working with the targeted population and continuity of leadership and their relevant experience. Scoring under this criterion will be based on the extent to which applicants describe the following:

• The previous experience of the organization in operating grants from either federal or non-federal sources;

• The organization's capacity to accomplish the goals and outcomes of the project, including the ability to collect and manage data in a way that allows consistent, accurate, and expedient reporting for the project evaluation;

• The fiscal controls in place in the organization for auditing and accountability procedures;

• The organization's ability to handle multiple funding streams. As some grantees may be simultaneously managing grants from other federal or state agencies, or private organizations, it is especially important that organizations be able to demonstrate that they have accounting systems in place that are able to manage multiple funding streams in an organized and delineated manner;

• The proposed project management structure including, where appropriate, the identification of a proposed project manager, discussion of the proposed staffing pattern, and the qualifications and experience of key staff members;

• The time commitment of all proposed staff; and

• The roles and contribution of staff, consultants, and collaborative organizations.

5. Linkages to Key Partners (up to 15 Points)

The applicant must demonstrate that the proposed project will be implemented by a strategic partnership. Collaboration across youth serving agencies/organizations is critical to the success of any youth initiative or program. A single organization does not typically have the resources to respond to the myriad of issues that impact youth most in need. Partnering across youth serving organizations that address specific youth barriers is critical to the success of any youth serving entity. Because of the importance of collaboration and partnership, DOL is a member of the Shared Youth Vision Federal Partnership. The Federal Partnership has a mission to collaborate and coordinate across agencies in order to effectively serve the youth most in need. There are a number of states (currently over half) who have formed Shared Youth Vision State teams. Please go to the ETA's Web site for a list of state teams and more information on the Shared Youth Vision at http://www.doleta.gov/ryf/WhiteHouseReport/VMO.cfm.

Points for this factor will be awarded based on: (a) The comprehensiveness of the partnership and the degree to which each key partner plays a committed role, either financial or non-financial, in the proposed project; (b) the breadth and depth of each key partner's contribution, their knowledge and experience concerning the proposed grant activities, and their ability to impact the success of the project; (c) evidence, including letters of commitment, that key partners have expressed a clear dedication to the project and understand their areas of responsibility; and (d) the inclusion of existing statewide and local collaborations focused on implementing a coordinated and jointly funded overall youth strategy.

Applicants should provide evidence of a plan for interaction and communication between partners and the demonstrated ability of the lead agency to successfully manage partnerships. Scoring under this criterion will be based on the extent to which applicants describe:

• The qualifications of the key partners who will be involved in the proposed project. Specifically, the applicant should describe in detail the activities to be undertaken by partners, the level of commitment from each partnering organization, and their qualifications to assist with this project. As an attachment, the applicant should include a letter of commitment from each key partner;

• How the existing program coordinates or will coordinate its services with those provided by other entities including public schools, community colleges, national service programs, other youth service providers, the juvenile justice system, foster care, housing, faith-based and community-based organizations such as those providing mentoring, and other community entities;

• The specific role of employer partners in the proposed program, such as their role in developing the new “bump-up” intervention, providing on-the-job training, job shadowing, internships, or placement activities.

Bonus Points (10 Points)

Given that out-of-school expectant mothers and out-of-school young parents are more difficult to serve and may not have the opportunity to receive the extensive array of services that is available for in-school young parents, ten bonus points will be granted to applicants who serve out-of-school expectant mothers and/or young parents.

Review and Selection Process. Applications will be accepted after the publication of this announcement until the closing date. A technical review panel will make a careful evaluation of applications against the criteria set forth in Part V of this Solicitation. These criteria are based on the policy goals, priorities, and emphases set forth in this SGA. The ranked scores will serve as the primary basis for selection of applications for funding, in conjunction with other factors such as: Urban-rural, and geographic balance; the availability of funds; and which proposals are most advantageous to the Government. The panel results are advisory in nature and not binding on the Grant Officer, who may consider any information that comes to his attention. The Government will consider applications rated by the evaluation panels with a score of 80 or above to be eligible for a grant award. Applicants that score less than 80 will not be eligible for a grant award. It is possible that ETA may not award grants under this Solicitation, depending on the quality and quantity of proposals submitted. ETA may elect to award the grant(s) with or without prior discussions with the applicants. Should a grant be awarded without discussions, the award will be based on the applicant's signature on the SF 424, which constitutes a binding offer.

Part VI. Award Administration Information

A. Award Notices

All award notifications will be posted on the ETA Web site at www.doleta.gov. Applicants selected for award will be contacted directly before the grant's execution. Applicants not selected for award will be notified by mail as soon as possible.

Note: Selection of an organization as a grantee does not constitute approval of the grant application as submitted. Before the actual grant is awarded, ETA may enter into negotiations about such items as programs components, staffing, and administrative systems in place to support grant implementation. If negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions, if applicable:

a. Workforce Investment Act—20 CFR part 667. (General Fiscal and Administrative Rules).

b. Non-Profit Organizations—OMB Circulars A-122 (Cost Principles) and 29 CFR part 95 (Administrative Requirements).

c. Educational Institutions—OMB Circulars A-21 (Cost Principles) and 29 CFR part 95 (Administrative Requirements).

d. State and Local Governments—OMB Circulars A-87 (Cost Principles) and 29 CFR part 97 (Administrative Requirements).

e. Profit Making Commercial Firms—FAR—48 CFR part 31 (Cost Principles), and 29 CFR part 95 (Administrative Requirements).

f. All entities must comply with 29 CFR parts 93 and 98, and, where applicable, 29 CFR parts 96 and 99.

g. The following administrative standards and provisions may also be applicable:

i. 29 CFR part 2, subpart D—Equal Treatment in Department of Labor Programs for Religious Organizations, Protection of Religious Liberty of Department of Labor Social Service Providers and Beneficiaries;

ii. 29 CFR part 30—Equal Employment Opportunity in Apprenticeship and Training;

iii. 29 CFR part 31—Nondiscrimination in Federally Assisted Programs of the Department of Labor—Effectuation of Title VI of the Civil Rights Act of 1964;

iv. 29 CFR part 32—Nondiscrimination on the Basis of Handicap in Programs and Activities Receiving or Benefiting from Federal Financial Assistance;

v. 29 CFR part 33—Enforcement of Nondiscrimination on the Basis of Handicap in Programs or Activities Conducted by the Department of Labor;

vi. 29 CFR part 35—Nondiscrimination on the Basis of Age in Programs or Activities Receiving Federal Financial Assistance from the Department of Labor;

vii. 29 CFR part 36—Nondiscrimination on the Basis of Sex in Education Programs or Activities Receiving Federal Financial Assistance;

viii. 29 CFR part 37—Implementation of the Nondiscrimination and Equal Opportunity Provisions of the Workforce Investment Act of 1998. In accordance with Section 18 of the Lobbying Disclosure Act of 1995 (Pub. L. 104-65) (2 U.S.C. 1611) non-profit entities incorporated under Internal Revenue Service Code section 501(c)(4) that engage in lobbying activities are not eligible to receive Federal funds and grants.

Note: Except as specifically provided in this Notice, ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, ETA's award does not provide the justification or basis to sole source the procurement, i.e., avoid competition, unless the activity is regarded as the primary work of an official partner to the application.

C. Special Program Requirements

ETA will require that the program or project participate in a formal evaluation of overall grant performance. To measure the impact of the grant program, ETA will conduct an independent evaluation of the outcomes and benefits of the projects. Grantees must agree to make records on participants, employers and funding available, and to provide access to program operating personnel and participants, as specified by the evaluator(s) under the direction of ETA, including after the expiration date of the grant. Please note that each grantee must agree to participate in a “bump-up” random assignment experiment. Please see Part I, Section 3 for more information on this requirement. ETA will provide both a technical assistance and evaluation contractor to assist grantees in developing and implementing the individual random assignment demonstrations to ensure project fidelity across the sites.

D. Reporting

As a condition of participation in the grant program, applicants will be required to submit periodic reports such as the Quarterly Financial Reports, Progress Reports and Final Reports as follows:

Quarterly Financial Reports. A Quarterly Financial Status Report (ETA 9130)/OMB Approval No. 1205-0461 is required until such time as all funds have been expended and/or the grant period has expired. Quarterly financial reports are due 45 days after the end of each calendar year quarter. Grantees must use ETA's Online Electronic Reporting System.

Quarterly Progress Reports. The grantee must submit a quarterly Performance Progress Report, SF-PPR/OMB Approval Number: 0970-0443 to the designated Federal Project Officer within 45 days after the end of each calendar year quarter. Two copies are to be submitted providing a detailed account of activities undertaken during that quarter. ETA may require additional data elements to be collected and reported on either a regular basis or special request basis. Please see Part V Section 1 of this SGA for the types of data elements ETA will require for quarterly submission. Grantees must agree to meet ETA's reporting requirements.

The quarterly progress report must be in narrative form and must include: In-depth information on accomplishments including project success stories, upcoming grant activities, promising approaches and processes, and progress toward performance outcomes, among others. Also, reports should include updates on product, curricula, training development, challenges, barriers, or concerns regarding project progress. Reports should also include lessons learned in the areas of project administration and management, project implementation, partnership relationships, and other related information. ETA will provide grantees with guidance and tools to help develop the quarterly reports once the grants are awarded.

Final Report. A draft final report must be submitted no later than 60 days prior to the expiration date of the grant. This report must summarize project activities, employment outcomes, and related results of the training project, and should thoroughly document capacity building and training approaches. The final report should also include copies of all deliverables, e.g. curricula and competency models. After responding to ETA questions and comments on the draft report, three copies of the final report must be submitted no later than the grant expiration date. Grantees must agree to use a designated format specified by ETA for preparing the final report.

Part VII. Agency Contact Information

For further information regarding this SGA, please contact Eileen Banks, Grants Management Specialist, (202) 693-3403. (Please note this is not a toll-free number.) Applicants should fax all technical questions to (202) 693-2879 and must specifically address the fax to the attention of Eileen Banks and should include SGA/DFA PY-08-08, a contact name, fax and phone number, and e-mail address. B. Jai Johnson is the Acting Grant Officer for this announcement and Jim Stockton is the Senior Grant Officer for this announcement. This announcement is being made available on the ETA Web site at http://www.doleta.gov/sga/sga.cfm, at http://www.grants.gov, as well as in the Federal Register.

Part VIII. Additional Resources of Interest to Applicants

Resources for the Applicant

ETA maintains a number of Web-based resources that may be of assistance to applicants.

• America's Service Locator at http://www.servicelocator.org provides a directory of the nation's One-Stop Career Centers.

• Applicants are encouraged to review “Help with Solicitation for Grant Applications” at http://www.dol.gov/cfbci/sgabrochure.htm.

• For a basic understanding of the grants process and basic responsibilities of receiving Federal grant support, please see “Guidance for Faith-Based and Community Organizations on Partnering with the Federal Government” available at http://www.whitehouse.gov/government/fbco/guidance/index.html.

Other Information

OMB Information Collection No. 1225-0086

Expires: September 30, 2009

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the OMB Desk Officer for ETA, Office of Management and Budget, Room 10235, Washington, DC 20503. Please do not return the completed application to the OMB. Send it to the sponsoring agency as specified in this solicitation. This information is being collected for the purpose of awarding a grant. The information collected through this “Solicitation for Grant Applications” will be used by the Department of Labor to ensure that grants are awarded to the applicants best suited to perform the functions of the grant. Submission of this information is required in order for the applicant to be considered for award of this grant. Unless otherwise specifically noted in this announcement, information submitted in the respondent's application is not considered to be confidential.

Signed at Washington, DC, this 24th day of September 2008.
James Stockton,
Grant Officer, Employment and Training Administration.

[FR Doc. E8-23319 Filed 10-2-08; 8:45 am]

BILLING CODE 4510-FT-P